SMALL BUSINESS ADMINISTRATION

13 CFR Part 120

RIN 3245-AE14

SBA Lender Oversight Program

AGENCY: U.S. Small Business Administration.

ACTION: Extension of comment period.

SUMMARY: On October 31, 2007, SBA published a proposed rule seeking comments on its proposal which would incorporate SBA's risk-based lender oversight program into SBA regulations. SBA is extending the comment period an additional 60 days from December 31, 2007 to February 29, 2008. The proposed rule is generating a significant level of interest. Given the scope of the proposal and the nature of the issues raised by the comments received to date, SBA believes the affected parties would find it beneficial to have more time to review the proposal and prepare their comments.

DATES: The comment period for the SBA Lender Oversight Program Notice and Request for Comments published October 31, 2007 (72 FR 61752) is extended through February 29, 2008.

ADDRESSES: You may submit comments, identified by RIN number 3245-AE14 by any of the following methods:

• Federal eRulemaking Portal: http://www.regulations.gov. Follow the instructions for submitting comments.

• Mail: Bryan Hooper, Director for Office of Credit Risk Management, U.S. Small Business Administration, 409 3rd Street, SW., 8th floor, Washington, DC 20416.

• Hand Delivery/Courier: Bryan Hooper, Director for Office of Credit Risk Management, U.S. Small Business Administration, 409 3rd Street, SW., 8th Floor, Washington, DC 20416.

All comments will be posted on www.Regulations.gov. If you wish to include within your comment, confidential business information (CBI) as defined in the Privacy and Use Notice/User Notice at www.Regulations.gov and you do not want that information disclosed, you must submit the comment by either Mail or Hand Delivery and you must address the comment to the attention of Linda Rusche, Supervisory Financial Analyst, Office of Credit Risk Management. In the submission, you must highlight the information that you consider is CBI and explain why you believe this information should be held confidential. SBA will make a final determination, in its sole discretion, of whether the information is CBI and, therefore, will not be published.

FOR FURTHER INFORMATION CONTACT: Linda Rusche, Supervisory Financial Analyst, at (816) 426-4860, or Bryan Hooper, Director, Office of Credit Risk Management, (202) 205-3049.

Authority: 15 U.S.C. 634.

Dated: December 11, 2007.
Eric R. Zarnikow,
Associate Administrator for the Office of Capital Access.

[FR Doc. E7-24381 Filed 12-19-07; 8:45 am]

BILLING CODE 8025-01-P